DEPARTMENT OF AGRICULTURE

Submission for OMB Review; Comment Request

March 19, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Offier for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Foreign Agricultural Service

Title: Export Assistance and Services.

OMB Control Number: 0551-0031.

Summary of Collection: The Ag Export Services Division of the Foreign Agricultural Service (FAS) facilities trade contacts between U.S. exporters and foreign buyers seeking U.S. food and agricultural products. Authority for this program falls under 7 U.S.C. part 1761, 7 U.S.C. part 5693 and 7 U.S.C. part 1765B. All of the assistance and services offered by the Division are designed to promote U.S. agricultural exports; help U.S. firms make contact with export agents, trading companies, importers and foreign buyers and create an opportunity to sell their products in overseas markets. This service provides the U.S. firm an opportunity to have a data record providing basic information about the company and the products its exports put into a USDA maintained database. FAS will collect information using a combination of forms and telephone interviews.

Need and Use of the Information: FAS will collect information on contact names, mailing addresses, telephones, fax, e-mail, and websites. The main purpose for collecting the information is to foster trade contacts in an effort to facilitate greater export of U.S. agriculture food, forestry, and fishery products. The databases are used to recruit U.S. exporters, importers, and buyers to participate in market development activities sponsored by USDA. These databases must be updated periodically to maintain the integrity and usefulness to the trade community.

Description of Respondents: Business or other for-profit.

Number of Respondents: 57,110.

Frequency of Responses: Reporting: annually; on occasion; quarterly.

Total Burden Hours: 10,476.

Farm Service Agency

Title: Report of Acreage.

OMB Control Number: 0560-0004.

Summary of Collection: Land and crop information is the basic foundation upon which many of Farm Service Agency (FSA) programs operate. The report of acreage is conducted on an annual basis and is used by FSA's county offices to determine eligibility for benefits that are available to producers on the farm. The actual number of producers who must supply information varies depending on: (1) The type of farming operation, and (2) the mix of crops planted (which has a direct relationship to the type of program the producer is eligible to participate in). In order to establish eligibility annually for these programs, a minimal amount of land and crop data about a producer's farming operation is required. The information is subsequently used to ensure compliance with program provisions, to determine actual production histories, and when disaster occurs, to verify crop loss. Producers must provide the information each year because variables such as previous year experience, weather projections, market demand, new farming techniques and personal preferences affect the amount of land being farmed, the mix of crops planted, and the projected harvest.

Need and Use of the Information: FSA will collect information verbally from the producers during visits to the county offices. FSA will collect one or more of the following data elements, as required: crop planted, planting date, crop's intended use, type or variety, practice (irrigated or non-irrigated), acres, location of the crop (tract and field), and the producer's percent share in the crop along with the names of other producers having an interest in the crop. Once the information is collected and eligibility established, the information is used throughout the crop year to ensure the producer remains complaint with program provisions. Without a certain level of information provided each crop year by the producer, a significant misuse of public funds could occur.

Description of Respondents: Farms; individuals or households; State, local, or tribal government.

Number of Respondents: 514,800.

Frequency of Responses: Reporting; annually.

Total Burden Hours: 755,325.

Farm Service Agency

Title: Farm Reconstitutions (7 CFR part 718).

OMB Control Number: 0560-0025.

Summary of Collection: The Agricultural Act of 1938, as amended, provides for the reconstitution of farms. A reconstitution is a change in the land constituting a farm as a result of combining or dividing tracts of land or farms. The reconstitution process ensures that the farm and tract records in the County FSA Office are correct and up to date. A reconstitution is a required procedure when a producer wishes to increase or decrease acreage attributed to the farm from leases, sale of land, or purchase of land. Form FSA-155, Request for Reconstitution, is used as the request for a farm reconstitution initiated by the producer.

Need and Use of the Information: FSA will collect information to determine farm and tract numbers, farmland, cropland, agricultural use land, distribution of tobacco quota and allotments, peanut quota, and production flexibility contract acres resulting from combination or division of the farming operation. The information is used by the County Office employees to document farm owners and operators, farmland, cropland, crop acreages, and whether land is being purchased or sold. Failure to collect the information required by FSA-155 would result in inaccurate farm records.

Description of Respondents: Farms.

Number of Respondents: 7,154.

Frequency of Responses: Reporting: on occasion.

Total Burden Hours: 12,519.

Farm Service Agency

Title: Payer's Request for Identifying Number.

OMB Control Number: 0560-0121.

Summary of Collection: Under section 6109 of the Internal Revenue Code, recipients of dividends, interest, or other payments are required to furnish identifying numbers to payers who must report such payments to the Internal Revenue Service. producers who receive Farm Service Agency (FSA) payments must provide a social security, employer, or IRS identifying number before any payment is made. FSA will collect information using form CCC-343, payer's Request for Identifying Number.

Need and Use of the Information: FSA will prepare a CCC-343 for each producer who cannot furnish a producer ID number. The information on the form is used to obtain a producer identifying number so program payments can be made. If the information is not collected a penalty can be imposed and FSA will not make program payments to producers without an identifying number.

Description of Respondent: Individuals or households; business or other for-profit; not-for-profit institutions; state, local or tribal government.

Number of Respondents: 1000.

Frequency of Responses: Reporting; other (when necessary).

Total Burden Hours: 83.

Farm Service Agency

Title: Importer Assessments (7 CFR part 1464, subpart B).

OMB Control Number: 0560-0148.

Summary of Collection: The Omnibus Budget Reconciliation Act of 1993 (the 1993 Act) imposes assessments on importers of unmanufactured tobacco, which enters into the commerce of the United States. The 1993 Act amended sections 106, 106A, and 106B of the Agricultural Act of 1949 (the 1994 Act) to require that each importer of such tobacco shall remit to Commodity Credit corporation (CCC) a no-net cost assessment fee on every pound of un-manufactured flue-cured or burley tobacco imported. The Farm Service Agency (FSA) will collect information using form CCC-100, Importer Entry and Assessment Worksheet.

Need and Use of the Information: FSA will collect information on the importers' name, import date, port of entry, and quantity imported to calculate the marketing assessment amount and the import assessment fee. The information collected is used by FSA to ensure that the marketing assessment fees and the importers no-net cost assessment fees are timely and accurately remitted by importers of unmanufactured tobacco that enters into the commerce of the United States.

Description of Respondent: Business or other for-profits; Federal government.

Number of Respondents: 19.

Frequency of Responses: Recordkeeping; reporting; other (import date).

Total Burden Hours: 257.

Farm Service Agency

Title: Tobacco Marketing Quota: Referenda Ballot, Receiving Station and Other Purchases.

OMB Control Number: 0560-0182.

Summary of Collection: The Agricultural Adjustment Act of 1938, as amended, (1938 Act) requires the proclamation of national marketing quotas for tobacco and requires the Secretary of Agriculture to conduct referenda to determine whether producers favor or oppose marketing quotas. Section 312 of the 1938 Act requires the Secretary of Agriculture to proclaim national marketing quotas for tobacco and to conduct a referendum of the farmers who are engaged in the production of the crop of tobacco harvested immediately prior to the referendum to determine whether such farmers are in favor of, or opposed to, national marketing quotas for the next succeeding marketing years. The Farm Service Agency (FSA) will collect information using several FSA forms.

Need and Use of the Information: FSA will collect information to determine whether marketing quotas will be in effect for certain kinds of tobacco and voters eligibility. Without conducting a referendum, the Secretary would be unable to administer statutory requirements regarding tobacco-marketing quotas. If no referendum were held and approved by eligible voters, tobacco producers would not have the benefits of a marketing quota and thereby a price support program.

Description of Respondents: Business or other for-profit; individuals or households; Federal government.

Number of Respondents: 327,537.

Frequency of Responses: Reporting: weekly; other (daily/every 3 yr.).

Total Burden Hours: 29,556.

Farm Service Agency

Title: Assignments of Payments and Joint Payment Authorization.

OMB Control Number: 0560-0183.

Summary of Collection: When the recipient of a Commodity Credit Corporation (CCC) or a Farm Service Agency (FSA) payment chooses to assign a payment to another party or have the payment made jointly with another party, the other party must be identified. This is a free service that is available upon request by the program payee. The regulations for assignment of payments are at 7 CFR part 1404. FSA will collect information using various forms.

Need and Use of the Information: FSA employee to record payment or contract being assigned, the amount of the assignment, the date, and the name and address of the assignee and the assignor will use the information collected on the forms. This is to enable FSA employee to pay the proper party when payments become due. FSA will also use the information to terminate joint payments at the request of both the producer and joint payee. If the information is not collected, there would be no payment to third party at the request of the respondents.

Description of Respondent: Farms; individuals or households.

Number of Respondents: 69,325.

Frequency of Responses: Reporting; on occasion.

Total Burden Hours: 11,778.

Farm Service Agency

Title: Lamb Meat Adjustment Assistance Program (LMAAP).

OMB Control Number: 0560-0205.

Summary of Collection: The Lamb Meat Adjustment Assistance Program (LMAAP) is administered and implemented under the general direction and supervision of the Farm Service Agency (FSA) through its State and County Committees. Authorizing legislation for LMAAP provides for the re-establishment of farmers' purchasing power by making payments in connection with the normal production of any agricultural commodity for domestic consumption. The objective of the LMAAP program is to make direct payments to producers of sheep and lamb operations to help them weather the current economic crisis, as well as, help improve their production efficiencies and the marketability of lamb meat during the period from July 21, 1999, through July 31, 2003.

Need and Use of the Information: FSA will collect information using form FSA 383 for program years 2-4 for the sheep and lamb operations. The information obtained from the form is needed to verify commodity and producer eligibility and calculate payment amounts. Without the information from the producers, FSA would be unable to administer the program to provide direct payments to the sheep and lamb operations.

Description of Respondents: Farm; individuals or households; business or other-for-profit.

Number of Respondents: 63,100.

Frequency of Responses: Reporting: annually.

Total Burden Hours: 351,257.

Farm Service Agency

Title: Bioenergy Program.

OMB Control Number: 0560-0207.

Summary of Collection: To encourage bioenergy producers to expand agricultural markets by promoting increased bioenergy production, the Commodity Credit Corporation (CCC), in accordance with the 2002 Act, will make incentive cash payments for FY 2003 through FY 2006 to bioenergy producers who increase their production of bioenergy (fuel grade ethanol and biodiesel) from eligible commodities over previous fiscal year bioenergy production. CCC will use its authority under section 5 of the CCC Charter Act, 15 U.S.C. 714c, to make biodiesel production eligible for the Program that would not be eligible solely under the bioenergy provisions of the 2002 Act to support the biodiesel industry. Bioenergy producers will enter into an agreement with CCC establishing their eligibility to receive program payments. The information will be collected by either mail or fax.

Need and Use of the Information: CCC will collect information from bioenergy producers that request payments under the Bioenergy Program to ensure the benefits are paid only to eligible bioenergy producers for eligible commodities. Failure to collect this information as outlined would make it difficult to ensure that payments to producers are made in accordance with the provisions of the regulations.

Description of Respondents: Business or other for-profit.

Number of Respondents: 100.

Frequency of Responses: Recordkeeping; reporting: annually; quarterly; other (850 multi-year).

Total Burden Hours: 1,100.

Farm Service Agency

Title: Designation of Burley Tobacco Sales & Annual Waiver To Release Information Restricted by the Privacy Act.

OMB Control Number: 0560-0217.

Summary of Collection: The Agricultural Adjustment Act of 1938, as amended (1938 Act) states a primary purpose of the Federal tobacco program will be “* * *. to control effectively the orderly marketing * * *” of tobacco and “* * *. to promote, foster, and maintain an orderly flow of such supply * * *.” Historically, 99 percent of all burley tobacco was marketed at auction warehouses. The large majority of burley tobacco is now being sold non-auction directly to manufacturers. Without the collection of designation information for burley tobacco, the Farm Service Agency (FSA) would not know where the tobacco would be sold or how many pounds would be sold outside the traditional auction market system. FSA will collect information using FSA-808, Designation of Burley Tobacco Sales and Request for Marketing Cards and MQ-60, Annual Waiver to Release Information Restricted by the Privacy Act.

Need and Use of the Information: FSA will collect the pounds, locations, and marketing cards information from the forms. FSA will also collect information to assign tobacco graders as needed to auction warehouses in order to grade tobacco that is delivered for sale.

Description of Respondent: Individuals or households; Federal Government.

Number of Respondents: 150,000.

Frequency of Responses: Reporting; annually.

Total Burden Hours: 187,504.

Rural Utilities Service

Title: Telecommunications System Construction Polices and Procedures.

OMB Control Number: 0572-0059.

Summary of Collection: The Rural Electrification Act of 1936 (RE Act), 7 U.S.C. 901 et seq., was amended in 2002 by title IV, Rural Broadband Access, by Farm Security and Rural Investment Act, which authorizes Rural Utilities Service (RUS) to provide loans and loan guarantees to fund the cost of construction, improvement, or acquisition for facilities and equipment for the provision of broadband service in eligible rural communities in the States and territories of the United States. Title VI of the RE Act requires that loans are granted only to borrowers who demonstrated that they will be able to repay in full within the time agreed. RUS has established certain standards and specification for materials, equipment and construction to assure that standards are maintained; loans are not adversely affected, and loans are used for intended purposes.

Need and Use of the Information: RUS has developed specific forms for borrowers to use when entering into contracts for goods of services. The information collected is use to implement certain provisions of loan documents about the borrower's purchase of materials and equipment and the construction of its broadband system and is provided on and as needed basis or when the individual borrower undertakes certain projects. The standardization of the forms has resulted in substantial savings to borrowers by reducing preparation of the documentation and the costly review by the government.

Description of Respondents: Business or other for-profit; not-for-profit.

Number of Respondents: 238.

Frequency of Responses: Reporting: quarterly.

Total Burden Hours: 3,123.

Rural Utilities Service

Title: 7 CFR 1728, Electric Standards and Specifications for Materials and Construction.

OMB Control Number: 0572-New.

Summary of Collection: The Rural Electrification Act of 1936, 7 U.S.C. 901 et seq., as amended, (RE Act) in sec. 4 (7 U.S.C. 904) authorizes and empowers the Administrator of the Rural Utilities Service (RUS) to make loans in several States and Territories of the United States for rural electrification and the furnishing and improving of electric energy to persons in rural areas. RUS' Administrator is authorized to provide financial assistance to borrowers for purposes provided in the RE Act by guaranteeing loans made by the National Rural Utilities Cooperative Finance Corporation, the Federal Financing Bank, and other lending agencies. These loans are for a term of up to 35 years and are secured by a first mortgage on the borrower's electric system. Manufacturers wishing to sell their products to RUS electric borrowers request RUS consideration for acceptance of their products and submit letters of request with certifications as to the origin of manufacture of the products and include certified data demonstrating their products' compliance with RUS specifications.

Need and Use of the Information: RUS will collect information to evaluate the data to determine that the quality of the products is acceptable and that their use will not jeopardize loan security. The information is closely reviewed to be certain that test data; product dimensions and product material compositions fully comply with RUS technical standards and specifications that have been established for the particular product. Without this information, RUS has no means of determining the acceptability of products for use in the rural environment.

Description of Respondents: Business or other for-profit.

Number of Respondents: 38.

Frequency of Responses: Reporting: on occasion.

Total Burden Hours: 1,760.

Rural Housing Service

Title: 7 CFR 1944-B, Housing Applications Packaging Grants.

OMB Control Number: 0575-0157.

Summary of Collection: Section 509 of the Housing Act of 1949, as amended, authorizes the Rural Housing Service (RHS) to make grants to private and public nonprofit organizations and State and local governments to package housing applications for Section 502, 504, 514/515 and 533 to colonias and designated counties. Eligible organizations aid very low and low-income individuals and families in obtaining benefits from RHS housing programs. Various forms are used to confirm income verification for loan applicants, as a checklist to obtain a loan, and to check credit information about the applicants.

Need and Use of the Information: RHS field personnel will use this information to verify program eligibility requirements, to secure grant assistance, and for approval of housing application-packaging grants. The information will ensure that the program is administered in a manner consistent with legislative and administrative requirements. Without this information, RHS would be unable to determine if a grantee qualifies for grant assistance.

Description of Respondents: Not-for-profit institutions.

Number of respondents: 300.

Frequency of responses: Recordkeeping; reporting: on occasion.

Total Burden Hours: 1,350.

Animal Plant and Health Inspection Service

Title: Recognizing the Animal Disease Status of Regions in the European Union.

OMB Control Number: 0579-New.

Summary of Collection: title 21, U.S.C. authorizes sections 111, 114, 114a, 114-1, 115, 120, 121, 125, 126, 134a, 134c, 134f, and 134g. These authorities permit the Secretary to prevent, control and eliminate domestic diseases such as brucellosis, as well as to take actions to prevent and to manage exotic diseases such as hog cholera and other foreign diseases. Disease prevention is the most effective method for maintaining a healthy animal population and enhancing the Animal Plant and health Inspection service (APHIS) ability to compete in exporting animal and animal products. APHIS published a rule that would recognize Greece as a region free of foot-and-mouth disease; recognize Greece and nine regions in northern Italy as free of swine vesicular disease; and recognize Austria, Belgium, France, Germany, Greece, Italy, Luxembourg, the Netherlands, Portugal, and Spain as a region free of hog cholera. Recognizing the new animal health status of these regions will allow them to import swine, pork and pork products, and swine semen into the United States under less stringent conditions, and will be regarded by the international community as a lowering of trade barriers. APHIS will collect information using certificates.

Need and use of the Information: APHIS will collect information concerning the origin and history of the items destined for importation into the United States. APHIS will also collect information to ensure that swine, pork and pork products, and swine semen pose a negligible risk of introducing exotic swine diseases into the United States. if the information is not collected it would cripple APHIS' ability to ensure that swine, pork and pork products, and swine semen pose a minimal risk of introducing hog cholera and other exotic animal disease into the United States.

Description of Respondents: Business or other for profit; State, local and tribal government.

Number of Respondents: 30.

Frequency of Responses: Reporting: on occasion.

Total Burden Hours: 300.

Agricultural Marketing Service

Title: Specified Commodities Imported into the United States Exempt from Import Requirements, 7 CFR Part 944, 980, and 999.

OMB Control Number: 0581-0167.

Summary of Collection: Agricultural Marketing Agreement Act of 1937 (AMAA), as amended (7 U.S.C. 601-674) provides that when certain domestically produced commodities are regulated under a Federal marketing order; imports of the commodity must meet the same or comparable requirements. Import regulations apply only during those periods when domestic marketing order regulations are in effect. No person may import products for processing or other exempt purposes unless an executed Importers Exempt Commodity Form (FV-6) accompanies the shipment. The Civil Penalty Stipulation Agreement (FV-7) is a “volunteer” form that provides the Agricultural Marketing Service (AMS) with an additional tool to obtain resolution of certain cases without the cost of going to a hearing.

Need and Use of the Information: AMS utilizes the information to ensure that imported goods destined for exempt outlets are given no less favorable treatment than that afforded to domestic goods destined for such exempt outlets. The importers wishing to import commodities will use form FV-6, “Importer's Exempt Commodity”, which requires a minimum amount of information.

Description of Respondents: Business or other for-profit; not-for-profit institutions.

Number of Respondents: 324.

Frequency of Responses: Reporting: on occasion.

Total Burden Hours: 2550.

Sondra A. Blakey,
Departmental Information Collection Clearance Officer.

[FR Doc. 03-6974 Filed 3-24-03; 8:45 am]

BILLING CODE 3410-01-M